DEPARTMENT OF TRANSPORTATION

Federal Highway Administration

[FHWA Docket No. FHWA-2024-0006]

Enhanced Driver Licensing and Vehicle Registration Data Reporting Specifications for 500-Series Program Purposes

AGENCY: Federal Highway Administration (FHWA), Department of Transportation (DOT).

ACTION: Notice; Request for comments.

SUMMARY: This notice requests comments on FHWA's forthcoming reporting specifications for licensed driver and registered vehicle data. The reporting specifications that are the subject of this notice are enhancements to the current reporting guidance. States are required to annually submit licensed driver and registered vehicle data to FHWA in accordance with specifications outlined in the Agency's `Guide to Reporting Highway Statistics,' which serves as the guiding document issued to State agencies for 500-Series Program execution purposes. These enhancements are necessary to support new and forthcoming regulatory, program and policy objectives, as well as inform Federal-aid system investment needs, analyses, and decisionmaking. The FHWA is targeting an implementation year of 2028, when States will be required to submit their data for 2027 per the new reporting guidance.

DATES: Comments must be received on or before October 21, 2024. Late-filed comments will be considered to the extent practicable.

ADDRESSES: To ensure that you do not duplicate your docket submissions, please submit comments by only one of the following means:

• Federal eRulemaking Portal: www.regulations.gov. This website allows the public to enter comments on any Federal Register notice issued by any agency. Follow the online instructions for submitting comments.

• Mail: U.S. Department of Transportation, Docket Operations, M-30, West Building Ground Floor, Room W12-140, 1200 New Jersey Avenue SE, Washington, DC 20590-0001.

• Hand Delivery: U.S. Department of Transportation, Docket Operations, West Building Ground Floor, Room W12-140, 1200 New Jersey Avenue SE, Washington, DC 20590 between 9:00 a.m. and 5:00 p.m., ET, Monday through Friday, except Federal holidays.

• Instructions: You should identify the docket number at the beginning of your comments. Late comments will be considered to the extent practicable. Note that all comments received will be posted without change to www.regulations.gov, including any personal information provided.

FOR FURTHER INFORMATION CONTACT: Ms. Allison Weber, Office of Policy & Governmental Affairs, Allison.Weber@dot.gov, office hours are from 8:00 a.m. to 4:30 p.m., ET, Monday through Friday, except Federal holidays, or Ms. Dawn Horan, Office of the Chief Counsel, Dawn.M.Horan@dot.gov, (202) 366-9615, office hours are from 8:00 a.m. to 4:30 p.m., ET, Federal Highway Administration, 1200 New Jersey Avenue SE, Washington, DC 20590. Offices are open Monday through Friday, except Federal holidays.

SUPPLEMENTARY INFORMATION: Additional information on the forthcoming changes and the related data specifications can be found on the FHWA Office of Highway Policy Information website at the following link: https://www.fhwa.dot.gov/policyinformation/data_collection_federal_register_notice.cfm.

Electronic Access

A copy of this notice, all comments received on this notice, and all background material may be viewed online at: www.regulations.gov using the docket number listed above. Electronic retrieval assistance and guidelines are also available at: www.regulations.gov. An electronic copy of this document may also be downloaded from the Office of the Federal Register's website at: www.FederalRegister.gov and the U.S. Government Publishing Office's website at: www.GovInfo.gov.

Background

The FHWA's Office of Highway Policy Information serves as the national source for highway data, providing DOT, Congress, and the transportation community with informational products in a timely manner to inform the development and implementation of decisions, policies, legislation, programs, and performance goals. Per 23 CFR 1.5 and 23 CFR 420.105(b), State departments of transportation (State DOT) must provide data that supports FHWA's responsibilities to Congress and to the public. The 500-Series Program is a series of reporting forms, designed by FHWA in consultation with the States, for State DOTs to collect data on State and local highway system funding, motor fuel distribution, licensed drivers, and registered motor vehicles. The series of reporting forms is a mechanism that State DOTs use to submit the data to FHWA and fulfill statutory obligations. The Guide to Reporting Highway Statistics serves as a reference for State DOTs to report the data required for the 500-Series Program.

The FHWA's Motor Fuel and Highway Funding Team, which manages the 500-Series Program, currently collects aggregate motor vehicle registration and licensed driver data annually from the States through FHWA-Form 561 and FHWA-Form 562.¹ The purpose is to capture a summary of active registrations, licenses, and related information on taxation and fees. This information allows policy and decisionmakers to understand transportation fleet composition and driver population trends over time, and the related revenue yields associated with licensed driver and registered vehicle-related transactions. The FHWA utilizes this data to support Federal-aid system investment analysis and decisionmaking, and to perform roadway safety/crash and vehicle fuel economy studies. The National Highway Traffic Safety Administration and the American Association of Motor Vehicle Administrators (AAMVA) use vehicle registration data as input to determine safety grant program funding and data system user fees, respectively, to allocate to and levy against States and jurisdictions.

¹ https://www.fhwa.dot.gov/eforms/mv-dl.htm.

Discussion of Changes

Through the development and implementation of enhanced data reporting specifications, FHWA will transition to the collection of non-Personally Identifiable Information (PII), record-based, raw/unprocessed registered vehicle and licensed driver data annually from State agencies (e.g., State DOTs, Departments of Motor Vehicles (DMV)). This data collection method will help address longstanding data concerns evident in the current reported data; help obtain data at a high level of granularity needed to support various regulatory activities and research initiatives, both existing and forthcoming; facilitate States' collection of data for reporting purposes; ensure the completeness and consistency of reported data; and contribute to determinations regarding allocations of AAMVA-related program fees.

Request for Comments

Although comments may address any component of the enhanced data reporting specifications, FHWA is specifically requesting comments on the data elements to be reported by the States per the enhanced data reporting guidance. This information is published on the web page referenced under Supplementary Information section in this notice.

Shailen P. Bhatt,
Administrator, Federal Highway Administration.

[FR Doc. 2024-18640 Filed 8-20-24; 8:45 am]

BILLING CODE 4910-22-P